Proclamation 10246 of August 31, 2021

National Recovery Month, 2021

By the President of the United States of America

A Proclamation

The COVID-19 pandemic has taken an enormous toll on the lives of the American people, especially those struggling with substance use disorder. While many have continued on their path towards recovery, even while facing the additional physical, emotional, and economic hardships brought about by the pandemic, others have struggled. During National Recovery Month, we celebrate the millions of Americans who have achieved recovery and reaffirm our commitment to helping more Americans overcome substance use disorder and reach recovery. We also support those who are still struggling to achieve recovery and dedicate ourselves to overcoming these challenges together.

This year's theme, “Recovery is For Everyone: Every Person, Every Family, Every Community,” emphasizes that recovery is possible for all Americans. My Administration honors the many pathways to recovery and will support individuals and their families at every step along their journey, in whatever form it takes. Everyone can support and encourage those working toward recovery.

The work ahead includes making treatment and recovery support services accessible to all Americans. My American Rescue Plan delivered nearly $4 billion to strengthen and expand mental health and substance use disorder services. My Administration will also continue to work to expand employment opportunities for people in recovery and foster the development of recovery-ready workplace policies and cultures. Helping those in recovery to attain economic opportunity and mobility will not only improve their well-being but also benefit our Nation as a whole. These investments will lay the foundation upon which more Americans—of all backgrounds and in every community—can build and maintain long-term recovery.

While opportunities for recovery should be available for everyone, those with substance use disorders in racially-diverse, Tribal, rural, and other underserved communities often lack access to the support services that they need to receive treatment and sustain their recovery. Research also shows that a treatment gap lingers between people of color and their white neighbors. People of color not only have less access to support services for addiction but are also subject to harsher penalties when addiction leads to interaction with the criminal justice system. To address this, my Administration launched a Government-wide approach to advancing equity, including in our public health and criminal justice approaches to drug policy.

When we make the appropriate support and service systems available to everyone and embrace those seeking to rejoin and contribute to our communities, we put sustained recovery within reach of more people. When we welcome Americans in recovery into our schools, homes, and workplaces with open arms, our Nation becomes stronger, healthier, and more inclusive.

During National Recovery Month, we also honor and thank those who have helped our Nation heal and build back better. In the face of unprecedented challenges this past year, our Nation's health care providers have delivered essential care and hope to individuals, families, and communities in need. On the frontlines of the addiction epidemic, they have ensured our Nation's system of care remains intact, facilitating treatment and recovery. As always, we celebrate the resilience and courage of the recovery community, which serves as a reminder that recovery is possible for everyone.

NOW, THEREFORE, I, JOSEPH R. BIDEN JR., President of the United States of America, by virtue of the authority vested in me by the Constitution and the laws of the United States, do hereby proclaim September 2021 as National Recovery Month. I call upon all citizens, government agencies, private businesses, nonprofit organizations, and other groups to take action to promote recovery and improve the health of our Nation.

IN WITNESS WHEREOF, I have hereunto set my hand this thirty-first day of August, in the year of our Lord two thousand twenty-one, and of the Independence of the United States of America the two hundred and forty-sixth.

[FR Doc. 2021-19327

Filed 9-2-21; 11:15 am]

Billing code 3295-F1-P